DEPARTMENT OF HOMELAND SECURITY

Federal Emergency Management Agency

[Docket ID FEMA-2023-0002; Internal Agency Docket No. FEMA-B-2311]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
California:
Riverside | Agua Caliente Band of Cahuilla Indian Reservation (21-09-0616P) | The Honorable Reid D. Milanovich, Chair, Tribal Council, Agua Caliente Band of Cahuilla Indians, 5401 Dinah Shore Drive, Palm Springs, CA 92264 | Tribal Administrative Office, Planning and Natural Resources, 5401 Dinah Shore Drive, Palm Springs, CA 92264 | https://msc.fema.gov/portal/advanceSearch | Apr. 28, 2023 | 060763
Riverside | City of Menifee (22-09-0958P) | The Honorable Bill Zimmerman, Mayor, City of Menifee, 29844 Haun Road, Menifee, CA 92586 | Public Works and Engineering Department, 29714 Haun Road, Menifee, CA 92586 | https://msc.fema.gov/portal/advanceSearch | May 17, 2023 | 060176
Riverside | City of Palm Springs (21-09-0616P) | The Honorable Lisa Middleton, Mayor, City of Palm Springs, 3200 East Tahquitz Canyon Way, Palm Springs, CA 92262 | Public Works and Engineering Department, 3200 East Tahquitz Canyon Way, Palm Springs, CA 92262 | https://msc.fema.gov/portal/advanceSearch | Apr. 28, 2023 | 060257
Riverside | Unincorporated Areas of Riverside County (22-09-0446P) | The Honorable Jeff Hewitt, Chair, Board of Supervisors, Riverside County, 4080 Lemon Street, 5th Floor, Riverside, CA 92501 | Riverside County, Flood Control and Water Conservation District, 1995 Market Street, Riverside, CA 92501 | https://msc.fema.gov/portal/advanceSearch | May 4, 2023 | 060245
Sonoma | City of Santa Rosa (22-09-0905P) | The Honorable Chris Rogers, Mayor, City of Santa Rosa, 100 Santa Rosa Avenue, Room 10, Santa Rosa, CA 95404 | City Hall, Engineering Division, 100 Santa Rosa Avenue, Room 3, Santa Rosa, CA 95404 | https://msc.fema.gov/portal/advanceSearch | May 4, 2023 | 060381
Sonoma | Unincorporated Areas of Sonoma County (22-09-0905P) | The Honorable Lynda Hopkins, Chair, Board of Supervisors, Sonoma County, 575 Administration Drive, Room 100A, Santa Rosa, CA 95403 | Sonoma County, Permit and Resource Management, 2550 Ventura Avenue, Santa Rosa, CA 95403 | https://msc.fema.gov/portal/advanceSearch | May 4, 2023 | 060375
Hawaii:
Honolulu | City and County of Honolulu (22-09-0548P) | The Honorable Rick Blangiardi, Mayor, City and County of Honolulu, 530 South King Street, Room 300, Honolulu, HI 96813 | Department of Planning and Permitting, 650 South King Street, 1st Floor, Honolulu, HI 96813 | https://msc.fema.gov/portal/advanceSearch | May 3, 2023 | 150001
Indiana:
Hamilton | City of Noblesville (22-05-1795P) | The Honorable Chris Jensen, Mayor, City of Noblesville, City Hall, 16 South 10th Street, Noblesville, IN 46060 | Planning Department, 16 South 10th Street, Suite 150, Noblesville, IN 46060 | https://msc.fema.gov/portal/advanceSearch | Apr. 6, 2023 | 180082
Lake | Town of St. John (21-05-3750P) | Mike Aurelio, Chair, St. John Town Council, Municipal Offices, 10995 West 93rd Avenue, St. John, IN 46373 | Town Clerk's Office, 10955 West 93rd Avenue, St. John, IN 46373 | https://msc.fema.gov/portal/advanceSearch | May 11, 2023 | 180141
Lake | Unincorporated Areas of Lake County (21-05-3750P) | Ted Bilski, President, Lake County Council, 2293 North Main Street, Building `A', 3rd Floor, Crown Point, IN 46307 | Lake County Building, 2293 North Main Street, Crown Point, IN 46307 | https://msc.fema.gov/portal/advanceSearch | May 11, 2023 | 180126
Minnesota:
Redwood | City of Redwood Falls (22-05-1715P) | The Honorable Gary Revier, Mayor, City of Redwood Falls, P.O. Box 526, Redwood Falls, MN 56283 | City Office, 333 South Washington Street, Redwood Falls, MN 56283 | https://msc.fema.gov/portal/advanceSearch | May 5, 2023 | 270393
Redwood | Unincorporated Areas of Redwood County (22-05-1715P) | Chair Priscilla Klabunde, Board of Redwood County Commissioners, P.O. Box 130, Redwood Falls, MN 56283 | Redwood County Government Center, 403 South Mill Street, Redwood Falls, MN 56283 | https://msc.fema.gov/portal/advanceSearch | May 5, 2023 | 270644
Missouri:
Jackson | City of Lee's Summit (22-07-0797P) | The Honorable Bill Baird, Mayor, City of Lee's Summit, 220 Southeast Green Street, Lee's Summit, MO 64063 | Mayor's Office, 207 Southwest Market Street, Lee's Summit, MO 64063 | https://msc.fema.gov/portal/advanceSearch | May 8, 2023 | 290174
Nebraska:
Lancaster | City of Lincoln (22-07-0792P) | The Honorable Leirion Gaylor Baird, Mayor, City of Lincoln, 555 South 10th Street, Suite 301, Lincoln, NE 68508 | Building and Safety Department, 555 South 10th Street, Lincoln, NE 68508 | https://msc.fema.gov/portal/advanceSearch | May 12, 2023 | 315273
Nevada:
Clark | Unincorporated Areas of Clark County (22-09-1177P) | The Honorable James B. Gibson, Chair, Board of Commissioners, Clark County, 500 South Grand Central Parkway, 6th Floor, Las Vegas, NV 89155 | Clark County, Office of the Director of Public Works, 500 South Grand Central Parkway, 2nd Floor, Las Vegas, NV 89155 | https://msc.fema.gov/portal/advanceSearch | May 4, 2023 | 320003
Texas:
Williamson | City of Hutto (22-06-1965P) | The Honorable Mike Snyder, Mayor, City of Hutto, 500 West Live Oak Street, Hutto, TX 78634 | City Hall, 500 West Live Oak Street, Hutto, TX 78634 | https://msc.fema.gov/portal/advanceSearch | Apr. 17, 2023 | 481047
Washington:
Chelan | Unincorporated Areas of Chelan County (22-10-0970P) | Cathy Mulhall, Chelan County Administrator, 400 Douglas Street, Suite 401, Wenatchee, WA 98801 | Chelan County, Department of Public Works, 350 Orondo Street, Wenatchee, WA 98801 | https://msc.fema.gov/portal/advanceSearch | Apr. 27, 2023 | 530015
Clark | City of Woodland (23-10-0005P) | The Honorable William Finn, Mayor, City of Woodland, P.O. Box 9, Woodland, WA 98674 | City Hall, 230 Davidson Avenue, Woodland, WA 98674 | https://msc.fema.gov/portal/advanceSearch | May 11, 2023 | 530035
Clark | Unincorporated Areas of Clark County (23-10-0005P) | Karen Dill Bowerman, County Councilor, District 3, Clark County, P.O. Box 5000, Vancouver, WA 98666 | Clark County, 1300 Franklin Street, Vancouver, WA 98660 | https://msc.fema.gov/portal/advanceSearch | May 11, 2023 | 530024
Cowlitz | Unincorporated Areas of Cowlitz County (23-10-0005P) | Arne Mortensen, County Commissioner, Cowlitz County, 207 4th Avenue North, Room 305, Kelso, WA 98626 | Cowlitz Administration Building, 207 4th Avenue North, Room 305, Kelso, WA 98626 | https://msc.fema.gov/portal/advanceSearch | May 11, 2023 | 530032

[FR Doc. 2023-02908 Filed 2-9-23; 8:45 am]

BILLING CODE 9110-12-P